DEPARTMENT OF ENERGY

Federal Energy Regulatory Commission

[Project Nos. 14304-000; 14305-000

Don Pedro Hydro, LLC; Moccasin Pumped Storage, LLC; Notice of Competing Preliminary Permit Applications Accepted For Filing and Soliciting Comments, Motions To Intervene, and Competing Applications

On October 14, 2011, Don Pedro Hydro, LLC (DPH) and Moccasin Pumped Storage, LLC (Moccasin) filed preliminary permit applications, pursuant to section 4(f) of the Federal Power Act, proposing to study the feasibility of a hydropower project at the existing Don Pedro Hydroelectric Project, located on the Tuolumne River, in Tuolumne County, California. The sole purpose of a preliminary permit, if issued, is to grant the permit holder priority to file a license application during the permit term. A preliminary permit does not authorize the permit holder to perform any land-disturbing activities or otherwise enter upon lands or waters owned by others without the owners' express permission.

DPH's proposed Don Pedro Pumped Storage Hydroelectric Project No. 14304-000 would consist of: (1) An upper reservoir with a total active storage capacity of 25,000 acre-feet and a surface area of 241 acres at maximum normal water surface elevation of 1,565 feet above mean sea level (msl); (2) a 900-foot-long, 32-foot-diamenter vertical shaft connecting to a 1,100 foot-long concrete lined penstock; (3) four 640-foot-long, 11-foot-diameter steel penstocks; (4) a powerhouse with four 250 MW pump/turbines having an installed capacity of approximately 1000 megawatts (MW); (5) a tailrace with 250-foot-long, 15 foot-diameter draft tubes and a 44-foot-diameter, 2,380 foot-long tunnel; (6) an intake on the existing Don Pedro reservoir, which would be used as the lower reservoir; and (7) use of existing transmission lines. The proposed project would have an annual generation of 3,683 gigawatt-hours (GWh).

Applicant Contact: Mr. Vincent Lamarra, Symbiotics, LLC, 975 South State Highway 89/91, Logan, UT 84321. (435) 752-2580.

Moccasin's Moccasin Pumped Storage Project No. 14305-000 would consist of:

Alternative A—(1) an upper reservoir with a total active storage capacity of 25,000 acre-feet and a surface area of 240 acres at maximum normal water surface elevation of 1,565 feet above mean sea level (msl); (2) a one-half mile-long, 32-foot-diameter tunnel to connect the upper reservoir with the existing Don Pedro reservoir; (3) a powerhouse with four 250 MW pump/turbines having an installed capacity of approximately 1,000 megawatts (MW); (4) an intake on the existing Don Pedro reservoir, which would be used as the lower reservoir; and (5) either a 47-mile-long, 230-kilovolt transmission line or a 60 to70 mile-long 500kV transmission line. Alternative A of the proposed project would have an annual generation of 3,675 gigawatt-hours (GWh).

Alternative B—(1) an upper reservoir with a total active storage capacity of 13,000 acre-feet and a surface area of 166 acres at maximum normal water surface elevation of 1,560 feet msl; (2) a 1.1-mile-long, 25-foot-diameter tunnel to connect the upper reservoir with the existing Don Pedro reservoir; (3) a powerhouse with pump/turbines having an installed capacity of approximately 440 MW; (4) an intake on the existing Don Pedro reservoir, which would be used as the lower reservoir; and (5) either a 47-mile-long, 230-kilovolt transmission line or a 60 to 70-mile-long, 500kV transmission line. Alternative B of the proposed project would have an annual generation of 770 GWh.

Applicant Contact: Mr. Greg Probst, enXco Development Corporation, 517 SW 4th Avenue, Suite 300, Portland, OR 97204. (503) 219-3166.

FERC Contact: Jim Hastreiter, james.hastreiter@ferc.gov, (503) 552-2760.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of the Commission's Web site at http://www.ferc.gov/docs-filing/elibrary.asp. Enter the docket number (P-14304-000, or P-14305-000) in the docket number field to access the document. For assistance, contact FERC Online Support.

Dated: November 1, 2011.
Kimberly D. Bose,
Secretary.

[FR Doc. 2011-28986 Filed 11-8-11; 8:45 am]

BILLING CODE 6717-01-P